SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions and extensions of OMB-approved information collections and a new collection.

SSA is soliciting comments on the accuracy of the agency's burden estimate; the need for the information; its practical utility; ways to enhance its quality, utility, and clarity; and ways to minimize the burden on respondents, including the use of automated collection techniques or other forms of information technology. Mail, email, or fax your comments and recommendations on the information collection(s) to the OMB Desk Officer and the SSA Director for Reports Clearance to the addresses or fax numbers shown below.

(OMB), Office of Management and Budget, Attn: Desk Officer for SSA, Fax: 202-395-6974, E-mail address: OIRA_Submission@omb.eop.gov.

(SSA), Social Security Administration, DCBFM, Attn: Director, Center for Reports Clearance, 1333 Annex Building, 6401 Security Blvd., Baltimore, MD 21235, Fax: 410-965-0454. E-mail address: OPLM.RCO@ssa.gov

I. The information collection below is pending at SSA. SSA will submit it to OMB within 60 days from the date of this notice. To be sure we consider your comments, we must receive them no later than September 25, 2009. Individuals can obtain copies of the collection instrument by calling the SSA Director for Reports Clearance at 410-965-0454 or by writing to the e-mail address we list above.

1. Waiver of Right to Appear—Disability Hearing—20 CFR 404.913-404.914, 404.916(b)(5), 416.1413-416.1414, 416.1416(b)(5)—0960-0534. SSA uses Form SSA-773-U4 for claimants, or their representatives, to officially waive their right to appear at a disability hearing. The disability hearing officer uses the signed form as a basis for not holding a hearing and for preparing a written decision on the claimant's request for disability based solely on the evidence of record. The respondents are claimants for disability, or their representatives, under Titles II and XVI of the Social Security Act, who wish to waive their right to appear at a disability hearing.

Type of Request: Extension of an OMB-approved information collection.

Number of Respondents: 200.

Frequency of Response: 1.

Average Burden per Response: 3 minutes.

Estimated Annual Burden: 10 hours.

2. Medical Consultant's Review of Physical Residual Functional Capacity Assessment—20 CFR 404.1545-.1546, 404.1640, 404.1643, 404.1645, 416.945-.946—0960-0680. SSA uses Form SSA-392 to facilitate the medical/psychological consultant's review of the Physical Residual Functional Capacity Form, SSA-4734. The SSA-392 records the reviewing medical/psychological consultant's assessment of the SSA-4734. It also documents whether the reviewer agrees or disagrees with how the adjudicator completed the SSA-4734. Medical/psychological consultants prepare the SSA-392 for each SSA-4734 an adjudicator completes. The respondents are medical/psychological consultants who conduct a quality review of adjudicating components' completion of SSA's medical assessment forms.

Type of Request: Extension of an OMB-approved information collection.

Number of Respondents: 256.

Frequency of Response: 359.

Number of Responses: 91,904

Average Burden per Response: 12 minutes.

Estimated Annual Burden: 18,381 hours.

II. SSA has submitted the information collections we list below to OMB for clearance. Your comments on the information collections would be most useful if OMB and SSA receive them within 30 days from the date of this publication. To be sure we consider your comments, we must receive them no later than August 26, 2009. You can obtain a copy of the OMB clearance packages by calling the SSA Director for Reports Clearance at 410-965-0454 or by writing to the above email address.

1. Request for Reconsideration—Disability Cessation—20 CFR 404.909, 416.1409—0960-0349. Claimants or their representatives use Form SSA-789-U4 to request that SSA reconsider a determination and to indicate whether they wish to appear at a disability hearing. The claimants can also use this form to submit any additional information/evidence for use in the reconsidered determination and to indicate if they will need an interpreter for the hearing. SSA uses the information either to arrange for a hearing or to prepare a decision based on the evidence of record. The respondents are applicants or claimants for Social Security benefits or Supplemental Security Income (SSI) payments.

Type of Request: Extension of an OMB-approved information collection.

Number of Respondents: 30,000.

Frequency of Response: 1.

Average Burden per Response: 13 minutes.

Estimated Annual Burden: 6,500 hours.

2. Disability Report—Adult—20 CFR 404.1512, 416.912—0960-0579. State Disability Determination Services (DDS) use the information SSA collects on the SSA-3368 and its electronic versions to determine if an adult disability applicant's impairment(s) is (are) severe and, if so, how the impairment(s) affects (affect) the applicant's ability to work. The information the DDSs collect on this form is crucial in making disability determinations for all adult claimants filing for SSA disability benefits and/or SSI payments. The respondents are applicants for Title II benefits and/or Title XVI payments. Type of Request: Revision of an OMB-approved information collection.

Collection method | Number of respondents | Frequency of response | Average burden per response (hours) | Estimated annual burden (hours)
SSA-3368 (Paper Form) | 22,950 | 1 | 1 | 22,950
Electronic Disability Collection System (EDCS) | 2,238,826 | 1 | 1 | 2,238,826
i3368 (Internet) | 319,994 | 1 | 1½ | 479,991
i3368PRO (Internet professional users—rollout only) | 10,264 | 1 | 1½ | 15,396
Total | 2,592,034 |  |  | 2,757,163

3. Request for Internet Services—Password Authentication—20 CFR 401.45—0960-0632. SSA has a password infrastructure and process to verify the identity of individuals who choose to use the Internet and the automated telephone response system to conduct personal business with SSA in an electronic environment. To obtain a password from SSA's individual password services, we prescribe information an individual must provide. SSA uses the information to authenticate an individual prior to issuing a temporary password. Once the individual creates a permanent password, he or she may use SSA password protected services, e.g., account status, change of address, direct deposit elections, or changes. The respondents are individuals electing to do personal business with SSA through an electronic medium.

Type of Request: Extension of an OMB-approved information collection.

Automated systems | Number of respondents | Frequency of response | Average burden per response (minutes) | Annual burden hours
Internet Requestors | 3,092,069 | 1 | 10 | 515,345
Telephone Requestors | 122,266 | 1 | 10 | 20,378
Total | 3,214,335 | 1 |  | 535,723

4. Function Report Adult—Third Party—20 CFR 404.1512 & 416.912—0960-0635. DDSs use the SSA-3380 to collect information about a disability applicant's or recipient's impairment-related limitations and ability to function. The information is an evidentiary source DDS evaluators use to determine eligibility for SSI and SSDI claims. The respondents are third parties familiar with the functional limitations (or lack thereof) of claimants who apply for SSI and SSDI benefits.

Type of Request: Revision of an OMB-approved information collection.

Respondent types | Number of respondents | Frequency of response | Average burden per response (minutes) | Estimated annual burden hours
Individuals | 500,000 | 1 | 61 | 508,333
Private Sector | 500,000 | 1 | 61 | 508,333
Total | 1,000,000 |  |  | 1,016,666

5. Medical Consultant's Review of Mental Residual Functional Capacity Assessment—20 CFR 404.1520a, 404.1640, 404.1643, 404.1645, 416.920a—0960-0678. SSA uses Form SSA-392-SUP to facilitate the medical/psychological consultant's review of the Mental Residual Functional Capacity Form, SSA-4734-SUP. The SSA-392-SUP records the reviewing medical/psychological consultant's assessment of the SSA-4734-SUP. It also documents whether the reviewer agrees or disagrees with how the adjudicator completed the SSA-4734-SUP. Medical/psychological consultants prepare the SSA-392-SUP for each SSA-4734-SUP an adjudicator completes. The respondents are medical/psychological consultants who conduct a quality review of adjudicating components' completion of SSA's medical assessment forms.

Type of Request: Revision of an OMB-approved information collection.

Number of Responses: 45,000.

Frequency of Response: 1.

Average Burden per Response: 12 minutes.

Estimated Annual Burden: 9,000 hours.

6. Representative Payment Policies Regulation—20 CFR 404.2011, 404.2025, 416.611, 416.625—0960-0679. When SSA determines it is not in a beneficiary's best interest to receive payments directly, as it may cause substantial harm, the beneficiary may dispute SSA's decision. If the beneficiary disputes the decision, he or she provides SSA with information the agency will use to re-evaluate the decision. In addition, after SSA selects a representative payee, the payee must provide SSA with information on his or her continuing relationship and responsibility for the beneficiary and explain how he or she used the beneficiary's payments. Respondents are beneficiaries and representative payees.

Type of Request: Extension of an OMB-approved information collection.

CFR section | Number of respondents | Frequency of response | Average burden per response (minutes) | Estimated annual burden hours
404.2011(a)(1), 416.611(a)(1) | 250 | 1 | 15 | 63
404.2025, 416.625 | 3,000 | 1 | 6 | 300
Total | 3,250 |  |  | 363

7. Function Report Adult—20 CFR 404.1512 & 416.912—0960-0681. State DDSs use Form SSA-3373-BK to collect information about a disability applicant's or recipient's impairment-related limitations and ability to function. The information is an evidentiary source DDS evaluators use to determine eligibility for SSI and SSDI claims. The respondents are Title II and Title XVI applicants (or current recipients undergoing redeterminations) for disability benefits.

Type of Request: Revision of an OMB-approved information collection.

Number of Respondents: 4,005,367.

Frequency of Response: 1.

Average Burden per Response: 61 minutes.

Estimated Annual Burden: 4,072,123 hours.

Dated: July 21, 2009.
Elizabeth A. Davidson,
Director, Center for Reports Clearance, Social Security Administration.

[FR Doc. E9-17805 Filed 7-24-09; 8:45 am]

BILLING CODE 4191-02-P